DEPARTMENT OF DEFENSE

Office of the Secretary

[Transmittal No. 24-0B]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 24-0B.

Dated: May 20, 2025.
Stephanie J. Bost,
Alternate OSD Federal Register Liaison Officer, Department of Defense.

BILLING CODE 6001-FR-P

BILLING CODE 6001-FR-C

Transmittal No. 24-0B

REPORT OF ENHANCEMENT OR UPGRADE OF SENSITIVITY OF TECHNOLOGY OR CAPABILITY (SEC. 36(B)(5)(C), AECA)

(i) Purchaser: Government of the United Kingdom

(ii) Sec. 36(b)(1), AECA Transmittal No.: 18-40

Date: October 19, 2018

Implementing Agency: Army

(iii) Description: On October 19, 2018, Congress was notified by Congressional certification transmittal number 18-40 of the possible sale, under Section 36(b)(1) of the Arms Export Control Act, of sixteen (16) H-47 Chinook (Extended Range) helicopters; thirty-six (36) T-55-GA-714A engines (32 installed, 4 spares); forty-eight (48) embedded GPS inertial navigation units (32 installed, 16 spares); twenty (20) common missile warning systems (16 installed, 4 spares); twenty-two (22) radio-frequency countermeasures (16 installed, 6 spares); nineteen (19) multi-mode radars (16 installed, 3 spares); nineteen (19) electro-optical sensor systems (16 installed, 3 spares); forty (40) M-134D-T miniguns, plus mounts and tools (32 installed, 8 spares); and forty (40) M240H machine guns, plus mounts and tools (32 installed, 8 spares). Also included was communications equipment; navigation equipment; aircraft survivability equipment; initial training equipment and services; synthetic training equipment; support package including spares and repair parts; special tools and test equipment; aviation ground support equipment; safety and air worthiness certification; technical support; maintenance support; technical and aircrew publications; mission planning system equipment and support; project management and governance; United States (U.S.) Government and contractor engineering and logistics support services; and other related elements of logistics and program support. The total estimated program cost was $3.5 billion. Major Defense Equipment (MDE) constituted $1.655 billion of this total.

This transmittal notifies the addition of the following MDE items:

—Seventeen (17) Common Infrared Countermeasure (CIRCM) Systems

—Seventeen (17) Limited Missile Warning Receiver Systems (LIMWS)

—Seventeen (17) Degraded Visual Environment Pilotage Systems (DVEPS)

Also included are Man-Portable Night Vision Devices. The estimated total value of these new items is $162 million, but their addition will not cause an increase in the total case value. The estimated total case value will remain at $3.5 billion. Major Defense Equipment (MDE) will remain at $1.655 billion of this total.

(iv) Significance: The proposed sale will enhance the United Kingdom's capabilities to provide national defense and contribute to NATO and coalition operations.

(v) Justification: This proposed sale will support the foreign policy goals and national security objectives of the U.S. by improving the security of a NATO Ally that is a force for political stability and economic progress in Europe.

(vi) Sensitivity of Technology: CIRCM is the next-generation lightweight, laser-based, infrared countermeasure system for rotary-wing, tiltrotor, and small fixed-wing aircraft across the DoD. CIRCM provides near-spherical coverage of the host platform to defeat infrared (IR)-seeking threat missiles. CIRCM receives an angular bearing hand-off from the Missile Warning System (Common Missile Warning System (CMWS) or LIMWS) and employs a pointing and tracking system that acquires and tracks the incoming missile. CIRCM jams the missile by using modulated laser energy, thus degrading the tracking capability of the missile and causing it to miss the aircraft.

LIMWS will protect aircraft from missiles by deploying flares and by cueing laser-based countermeasure systems such as the CIRCM. The LIMWS A-kit is backwards compatible with CMWS. LIMWS maintains overmatch of quickly emerging threat technology and tactics by providing increased detection range, improved detection in clutter, and more agile algorithms to rapidly respond to emerging Man-Portable Air Defense Systems (MANPADS) threats. LIMWS utilizes IR-based sensors to detect incoming missiles and unguided hostile fire, fiber optic cables for high-speed data transmission from the sensors to the system processor and implements machine learning algorithms.

DVEPS provides overmatch by providing increased situational awareness to the aircrew in Degraded Visual Environment (DVE) conditions such as brownout, allowing Special Operations Aviation assets to execute missions in almost any environmental condition. DVEPS utilizes using three-dimensional (3D) imaging technology. DVEPS produces imagery, 3D conformal symbology, and system alerts to aid pilots in maintaining spatial awareness during and after transition from visual meteorological conditions (VMC) to DVE conditions. DVEPS includes a synthetic vision avionics backbone (SVAB), light detection and ranging (LiDAR), removable storage device, infrared camera, power distribution unit, and inertial measurement unit.

The highest level of classification of defense articles, components, and services included in this potential sale is SECRET.

(vii) Date Report Delivered to Congress: March 12, 2024

[FR Doc. 2025-09363 Filed 5-23-25; 8:45 am]

BILLING CODE 6001-FR-P